NUCLEAR REGULATORY COMMISSION

Termination of Agreement Between the U.S. Nuclear Regulatory Commission and the State of Louisiana Pursuant to Section 274i of the Atomic Energy Act of 1954, as Amended

AGENCY: Nuclear Regulatory Commission.

ACTION: Notice of Termination of Section 274i Agreement.

SUMMARY: Notice is hereby given that effective April 26, 2000, the section 274i agreement between the State of Louisiana and the U.S. Nuclear Regulatory Commission (NRC or Commission) is terminated, in response to the March 22, 2000 request from Louisiana Governor M. J. “Mike” Foster.

EFFECTIVE DATE: April 26, 2000.

FOR FURTHER INFORMATION: Contact Kevin Hsueh, Office of State and Tribal Programs, U.S. Nuclear Regulatory Commission, Washington, DC 20555-0001, by telephone 301-415-2598 or by Internet electronic mail at KPH@NRC.GOV.

SUPPLEMENTARY INFORMATION:

Background

In 1967, the State of Louisiana and the United States Atomic Energy Commission (now the U.S. Nuclear Regulatory Commission) entered into an agreement for the discontinuance of the Commission's regulatory responsibilities over the use and possession of certain types of radioactive material in Louisiana. This agreement was noticed in the Federal Register on May 3, 1967 (32 FR 6806). The State of Louisiana, in turn, assumed authority over these regulatory activities formerly exercised by the Commission. The Commission entered into this agreement with the State of Louisiana pursuant to section 274b of the Atomic Energy Act of 1954, as amended. This agreement for the discontinuance of the Commission's authority became effective May 1, 1967 and, at the same time, established Louisiana as an Agreement State. Additionally, on May 3, 1967 (32 FR 6807), the Commission published in the Federal Register a notice of an agreement between the State of Louisiana and the Commission which permitted the State to perform inspections or other functions in offshore waters adjacent to Louisiana on behalf of the Commission. This inspection agreement, entered into pursuant to section 274i of the Act, did not expand the State's regulatory authority but rather specifically authorized the State to conduct inspection activities and other functions on the Commission's behalf.

The NRC has received a letter from Louisiana Governor M. J. “Mike” Foster, Jr., dated March 22, 2000 requesting termination of the section 274i agreement, effective 30 days from receipt of the letter. The request was filed in accordance with section 6 of the inspection agreement, which states

“Sixth: This Agreement shall become effective on May 1, 1967, and shall remain in effect so long as the 274b. Agreement remains in effect unless sooner terminated by either party on 30 days' prior written notice.”

Governor Foster noted that difficulties arranging transportation and a lack of both financial and personnel resources have made in burdensome to conduct field activities for the NRC. The State has concluded that the section 274i inspection agreement is no longer needed and should be terminated.

Effective April 26, 2000, the inspection agreement entered into by the State of Louisiana and the Commission has been terminated. On that date, the NRC, not the State, will conduct inspections of NRC-licensed activities in offshore waters adjacent to Louisiana. In addition, NRC plans to issue a conforming amendment to its reciprocity regulations at 10 CFR 150.20(d) which will remove the specific reference to the Commission's inspection agreement with Louisiana. As part of the rulemaking or in a separate communication, the NRC will provide guidance to Louisiana licensees regarding the impacts that the termination of this agreement will have on the notification and fee requirements for activities conducted in offshore waters.

Termination of the section 274i inspection agreement, however, does not in any way affect the existing agreement between the Commission and the State of Louisiana entered into pursuant to section 274b of the Act. Accordingly, termination of the inspection agreement does not affect Louisiana's status as an Agreement State.

Dated at Rockville, Maryland, this 26th day of April, 2000.
Frederick C. Combs,
Deputy Director, Office of State and Tribal Programs.

[FR Doc. 00-10886 Filed 5-1-00; 8:45 am]

BILLING CODE 7590-01-M